DEPARTMENT OF THE INTERIOR

Bureau of Indian Affairs

[178A2100DD/AAKC001030/A0A501010.999900 253G]

Reservation Proclamations

AGENCY: Bureau of Indian Affairs, Interior.

ACTION: Notice of availability of procedural guidance.

SUMMARY: The Bureau of Indian Affairs (BIA) has updated its Fee-to-Trust Handbook to include procedural guidance for its employees on processing reservation proclamations, including simultaneous requests for trust acquisition and reservation proclamations.

ADDRESSES: The updated Fee-to-Trust Handbook is available at the following link: http://www.bia.gov/WhatWeDo/Knowledge/Directives/Handbooks/.

FOR FURTHER INFORMATION CONTACT: Ms. Sharlene Round Face, Office of Trust Services, Bureau of Indian Affairs, (202) 208-3615, sharlene.roundface@bia.gov, or Ms. Tana Fitzpatrick, Counselor, Assistant Secretary—Indian Affairs, (202) 208-7163, tana.fitzpatrick@bia.gov.

SUPPLEMENTARY INFORMATION: The BIA has updated its Fee-to Trust Handbook to establish procedures for BIA to process simultaneous requests for trust land acquisitions under 25 CFR part 151 and reservation proclamations under the Act of June 18, 1934 (48 Stat. 984; 25 U.S.C. 467). This Handbook revision will provide flexibility for Tribes who wish to submit their requests simultaneously. BIA has also updated the Handbook to include guidance for processing reservation proclamations where the land has already been acquired in trust.

Authority: 5 U.S.C. 301; 25 U.S.C. 2; 25 U.S.C. 9; 25 U.S.C. 467.

Dated: December 30, 2016.
Lawrence S. Roberts,
Principal Deputy Assistant Secretary—Indian Affairs.

[FR Doc. 2017-00703 Filed 1-12-17; 8:45 am]

BILLING CODE 4337-15-P